DEPARTMENT OF THE INTERIOR

Bureau of Land Management

[AZ-049-1040-JH]

Call for Nominations for Gila Box Advisory Committee

AGENCY: Bureau of Land Management (BLM), Interior.

ACTION: Call for nominations for Gila Box Riparian National Conservation Area (RNCA) Advisory Committee.

SUMMARY: The BLM is publishing this notice under section 9(a)(2) of the Federal Advisory Committee Act. The purpose of this notice is to solicit public nominations to fill seven positions on the Gila Box Riparian National Conservation Area Advisory Committee. The Advisory Committee was created through title 2, section 201, of the Arizona Desert Wilderness Act of 1990 to provide informed advice to the Safford Field Manager on management of public lands in the Gila Box Riparian National Conservation Area in southeastern Arizona.

Any individual or organization may nominate one or more persons to serve on the Advisory Committee. Persons wishing to nominate themselves or other individuals for appointment should provide an application that includes the name, address, phone number, profession, biographical data, and category of expertise for each qualified nominee, along with at least one letter of recommendation that addresses the nominee's qualifications. Nominations should be submitted to the Gila Box Manager at the address below.

DATES: All nominations should be received by the BLM Safford Field Office no later than 30 days after the publication of this notice.

FOR FURTHER INFORMATION CONTACT: Bonnie Winslow, Gila Box Manager, Safford Field Office, 711 14th Ave., Safford, AZ 85546, (928) 348-4570 or Bonnie_Winslow@blm.gov. More information about the Gila Box is available at http://www.az.blm.gov/sfo/gila_box/gila.html.

SUPPLEMENTARY INFORMATION: To ensure membership of the Advisory Committee is balanced in terms of categories of interest represented and functions performed, nominees must be qualified to provide advice in specific areas related to the primary purposes for which the Gila Box Riparian National Conservation Area was created. These categories of expertise include wildlife conservation, riparian ecology, hydrology, outdoor recreation, watershed management, environmental education, cultural resources, or other related disciplines.

Three positions on the Committee are representatives for the State of Arizona, Graham County, and Greenlee County. Nominations for these representatives are submitted to the BLM from the Governor of Arizona and the Boards of Supervisors for Graham and Greenlee Counties respectively. Those wishing to be nominated for any of those positions should contact the appropriate office to inform it of their interest. Nominations for the remaining four positions should be submitted directly to the BLM Safford Field Office.

Committee members are selected by the Secretary of the Interior to serve staggered terms of one to three years, with terms beginning on the date of the appointment. The Advisory Committee will meet 2-4 times each year. Members serve without salary, but are reimbursed for travel and per diem expenses at current rates for government employees.

Dated: December 8, 2003.
Frank Rowley,
Acting Field Manager.

[FR Doc. 04-7 Filed 1-9-04; 8:45 am]

BILLING CODE 4310-32-P